DEPARTMENT OF THE INTERIOR

Bureau of Land Management

[CA-930-1430-ET, CACA 7767 and CACA 44322]

Public Land Order No. 7585; Partial Revocation of Executive Order dated February 26, 1852; Withdrawal of Public Lands and Transfer of Jurisdiction; California

AGENCY: Bureau of Land Management, Interior.

ACTION: Public Land Order.

SUMMARY: This order partially revokes an Executive Order insofar as it affects 6.15 acres of public lands withdrawn for use by the Department of Navy for military purposes. This order also withdraws the same lands from surface entry and mining, and transfers the jurisdiction to the Department of Veterans Affairs, for expansion and operation of the Fort Rosecrans National Cemetery.

DATES: October 3, 2003.

FOR FURTHER INFORMATION CONTACT: Duane Marti, BLM California State Office, 2800 Cottage Way, Sacramento, California 95825-1886; (916) 978-4675.

SUPPLEMENTARY INFORMATION: The Department of Navy no longer needs the lands for military purposes and concurs with the transfer of jurisdiction. A memorandum of agreement between the Department of Navy and the Department of Veteran Affairs contains provisions relative to future use of the lands by the Department of Veterans Affairs.

Order

By virtue of the authority vested in the Secretary of the Interior by Section 204 of the Federal Land Policy and Management Act of 1976, 43 U.S.C. 1714 (2000), it is ordered as follows:

1. The Executive Order, dated February 26, 1852, which withdrew public lands for military purposes, is hereby revoked insofar as it affects the following described lands:

San Bernardino Meridian

T. 17 S., R. 4 W.,

Parcels 2, 3, and 4.

The areas described aggregate 6.15 acres in San Diego County.

2. Subject to valid existing rights, the lands described in Paragraph 1, are hereby withdrawn from settlement, sale, location, or entry under the general land laws, including the United States mining laws, 30 U.S.C., Ch. 2 (2000), for the Department of Veterans Affairs to expand the Fort Rosecrans National Cemetery.

3. Subject to valid existing rights, the jurisdiction of the lands described in Paragraph 1 and their related resource uses are hereby transferred to the Department of Veterans Affairs, so that the lands can be managed as part of the Fort Rosecrans National Cemetery and shall thereafter be subject to all laws and regulations applicable thereto.

Dated: September 12, 2003.
Rebecca W. Watson,
Assistant Secretary—Land and Minerals Management.

[FR Doc. 03-25066 Filed 10-2-03; 8:45 am]

BILLING CODE 4310-40-P